Proclamation 10526 of February 28, 2023

National Colorectal Cancer Awareness Month, 2023

By the President of the United States of America

A Proclamation

During National Colorectal Cancer Awareness Month, we call attention to the second leading cause of cancer deaths in America—by sharing information about risk factors, promoting life-saving early screenings, and improving access to affordable treatment. In remembrance of every life cut short by this devastating disease, my Administration is determined to end cancer as we know it.

When a loved one is diagnosed with cancer, every minute counts. But patients can be overwhelmed by a flood of medical information, and they too often struggle to afford life-saving care. Our country needs to do more to help patients and families navigate the cancer care system. We need to learn from patients' experiences, and we need to share data and knowledge to help prevent other families from encountering the same obstacles to prevention and care. When it comes to colorectal cancer, we must also focus our efforts on those most likely to develop this disease, including Americans over the age of 45; Black Americans; people with a family history of colorectal cancer; and people who smoke, consume alcohol, or are obese.

Because early detection drastically improves survival rates, the independent United States Preventive Services Task Force recommends regular screenings for all Americans who are older than 45 or have other risk factors. People should consult a doctor if they experience symptoms including blood in their stool, a change in bowel habits, stomach pain, bloating, persistent cramps, or unexplained weight loss. Vital screenings like colonoscopies can detect cancer early and remove precancerous growths, preventing the disease before it starts.

My Administration is working around the clock to develop new treatments that can turn this and other kinds of cancer from life-threatening diseases into chronic ones that people can live with and that can even cure certain forms of cancer. The First Lady and I reignited the Cancer Moonshot initiative that I began as Vice President, setting a new goal of cutting the Nation's cancer death rate in half in the next 25 years while better supporting patients and caregivers. To develop bold breakthroughs in preventing, diagnosing, and treating cancer and other deadly diseases, I established the Advanced Research Projects Agency for Health (ARPA-H), securing $2.5 billion in funding with bipartisan support from the Congress. And last fall, I signed an Executive Order to help ensure that biotechnology invented in America is made in America, growing our economy and strengthening our supply chains for vital medications.

At the same time, we are continuing to make existing cancer care more affordable. The American Rescue Plan expanded the Affordable Care Act, which requires insurers to pay for cancer screenings and primary care visits and to cover cancer survivors and others who have preexisting conditions. Last year, I signed the Inflation Reduction Act, which will cap costs for prescription drugs—including life-saving cancer medicines—for seniors on Medicare at $2,000 per year. My Administration has worked with the private sector to bring cancer screenings to more communities; develop and test new treatments; and share data, which can accelerate research and save lives. My Administration is also promoting cancer prevention and healthy diets, which can reduce the risk of colorectal cancer. As part of our national strategy to end hunger and reduce diet-related diseases, we are working to provide healthy, free meals to millions more school kids; boost Medicaid and Medicare coverage for services like nutrition and obesity counseling; and make fruits and vegetables more affordable for low-income families.

The task ahead is great, but I am optimistic. Many thousands of families have shared their cancer stories with me over the years; each time, I am reminded how personal this pain is and how universal the dream of a cure continues to be. This common cause can unite this Nation and the world to join together and marshal the resources, brightest minds, and most dedicated advocates to finally end cancer once and for all.

NOW, THEREFORE, I, JOSEPH R. BIDEN JR., President of the United States of America, by virtue of the authority vested in me by the Constitution and the laws of the United States, do hereby proclaim March 2023 as National Colorectal Cancer Awareness Month. I encourage all citizens, government agencies, private businesses, non-profit organizations, and other groups to join in activities that will increase awareness and prevention of colorectal cancer. I also encourage Americans to visit HealthCare.gov and learn more about signing up for health coverage under the Affordable Care Act.

IN WITNESS WHEREOF, I have hereunto set my hand this twenty-eighth day of February, in the year of our Lord two thousand twenty-three, and of the Independence of the United States of America the two hundred and forty-seventh.

[FR Doc. 2023-04546

Filed 3-2-23; 8:45 am]

Billing code 3395-F3-P